DEPARTMENT OF ENERGY

Federal Energy Regulatory Commission

Combined Notice of Filings #1

Take notice that the Commission received the following electric rate filings:

Docket Numbers: ER23-2638-001.

Applicants: NRG Business Marketing LLC.

Description: Tariff Amendment: Response to Request for Additional Information to be effective 8/16/2023.

Filed Date: 11/9/23.

Accession Number: 20231109-5151.

Comment Date: 5 pm ET 11/30/23.

Docket Numbers: ER23-2639-002.

Applicants: NRG Business Marketing LLC.

Description: Compliance filing: Response to Request for Additional Information to be effective 8/16/2023.

Filed Date: 11/9/23.

Accession Number: 20231109-5153.

Comment Date: 5 p.m. ET 11/30/23.

Docket Numbers: ER23-2641-001.

Applicants: NRG Power Marketing LLC.

Description: Tariff Amendment: Response to Request for Additional Information to be effective 8/1/2023.

Filed Date: 11/9/23.

Accession Number: 20231109-5159.

Comment Date: 5 p.m. ET 11/30/23.

Docket Numbers: ER23-2642-001.

Applicants: NRG Power Marketing LLC.

Description: Tariff Amendment: Response to Request for Additional Information to be effective 8/1/2023.

Filed Date: 11/9/23.

Accession Number: 20231109-5161.

Comment Date: 5 p.m. ET 11/30/23.

Docket Numbers: ER23-2842-001.

Applicants: Sunnyside Cogeneration Associates.

Description: Tariff Amendment: Supplement to MBR Application to be effective 9/15/2023.

Filed Date: 11/9/23.

Accession Number: 20231109-5138.

Comment Date: 5 p.m. ET 11/30/23.

Docket Numbers: ER23-2885-001.

Applicants: PJM Interconnection, L.L.C.

Description: Tariff Amendment: Amendment of NSA, SA No. 7076; Queue No. AD1-031 in Docket ER23-2885-000 to be effective 11/20/2023.

Filed Date: 11/9/23.

Accession Number: 20231109-5117.

Comment Date: 5 p.m. ET 11/30/23.

Docket Numbers: ER24-330-000.

Applicants: Arizona Public Service Company.

Description: Answer of Solar Energy Industries Association And Interwest Power Alliance Opposing Arizona Public Service Company's Expedited Action, et al.

Filed Date: 11/9/23.

Accession Number: 20231109-5190.

Comment Date: 5 p.m. ET 11/30/23.

Docket Numbers: ER24-340-000; ER24-341-000.

Applicants: Midcontinent Independent System Operator, Inc., Midcontinent Independent System Operator, Inc.

Description: Answer of Midcontinent Independent System Operator, Inc. Opposing Motions of DTE Electric Company for Extension of Time to Comment.

Filed Date: 11/9/23.

Accession Number: 20231109-5188.

Comment Date: 5 p.m. ET 11/30/23.

Docket Numbers: ER24-367-000.

Applicants: Midcontinent Independent System Operator, Inc., Michigan Electric Transmission Company, LLC.

Description: § 205(d) Rate Filing: Midcontinent Independent System Operator, Inc. submits tariff filing per 35.13(a)(2)(iii: 2023-11-09_SA 4182 METC-Consumers Energy E&P (J2815) to be effective 11/2/2023.

Filed Date: 11/9/23.

Accession Number: 20231109-5017.

Comment Date: 5 p.m. ET 11/30/23.

Docket Numbers: ER24-368-000.

Applicants: Southwest Power Pool, Inc.

Description: § 205(d) Rate Filing: 4179 Osborne Grid, LLC GIA to be effective 11/2/2023.

Filed Date: 11/9/23.

Accession Number: 20231109-5025.

Comment Date: 5 p.m. ET 11/30/23.

Docket Numbers: ER24-369-000.

Applicants: Southwest Power Pool, Inc.

Description: § 205(d) Rate Filing: 4180 NextEra Energy Resources Surplus Interconnection GIA to be effective 1/8/2024.

Filed Date: 11/9/23.

Accession Number: 20231109-5029.

Comment Date: 5 p.m. ET 11/30/23.

Docket Numbers: ER24-370-000.

Applicants: San Diego Gas & Electric Company.

Description: § 205(d) Rate Filing: 2024 TACBAA Update to be effective 1/1/2024.

Filed Date: 11/9/23.

Accession Number: 20231109-5041.

Comment Date: 5 p.m. ET 11/30/23.

Docket Numbers: ER24-371-000.

Applicants: Southern California Edison Company.

Description: § 205(d) Rate Filing: City of Victorville Amended IFA WDT298 SA. 231 to be effective 1/9/2024.

Filed Date: 11/9/23.

Accession Number: 20231109-5056.

Comment Date: 5 p.m. ET 11/30/23.

Docket Numbers: ER24-372-000.

Applicants: Midcontinent Independent System Operator, Inc.

Description: § 205(d) Rate Filing: 2023-11-09_SA 4187 Duke Energy IN-Galea Springs GIA (J1388) to be effective 1/9/2024.

Filed Date: 11/9/23.

Accession Number: 20231109-5063.

Comment Date: 5 p.m. ET 11/30/23.

Docket Numbers: ER24-373-000.

Applicants: Yellow Pine Solar Interconnect, LLC.

Description: Baseline eTariff Filing: Yellow Pine Solar Interconnect, LLC Shared Facilities Agreement to be effective 11/10/2023.

Filed Date: 11/9/23.

Accession Number: 20231109-5067.

Comment Date: 5 p.m. ET 11/30/23.

Docket Numbers: ER24-374-000.

Applicants: PJM Interconnection, L.L.C.

Description: § 205(d) Rate Filing: Financial Transmission Rights Bilateral Agreement Reform to be effective 1/9/2024.

Filed Date: 11/9/23.

Accession Number: 20231109-5122.

Comment Date: 5 p.m. ET 11/30/23.

Docket Numbers: ER24-375-000.

Applicants: PJM Interconnection, L.L.C.

Description: § 205(d) Rate Filing: Original NSA, SA No. 7130; Queue No. AF1-014 to be effective 1/9/2024.

Filed Date: 11/9/23.

Accession Number: 20231109-5157.

Comment Date: 5 p.m. ET 11/30/23.

Take notice that the Commission received the following public utility holding company filings:

Docket Numbers: PH24-4-000.

Applicants: CMS Energy Corporation.

Description: CMS Energy Corporation submits FERC 65-B Notice of Exemption Notification.

Filed Date: 11/7/23.

Accession Number: 20231107-5166.

Comment Date: 5 p.m. ET 11/28/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 9, 2023.
Debbie-Anne A. Reese,
Deputy Secretary.

[FR Doc. 2023-25344 Filed 11-15-23; 8:45 am]

BILLING CODE 6717-01-P